DEPARTMENT OF DEFENSE

Office of the Secretary

[Docket ID: DOD-2010-OS-0144]

Privacy Act of 1974; System of Records

AGENCY: Defense Information Systems Agency; DoD.

ACTION: Notice to amend a system of records.

SUMMARY: The Defense Information Systems Agency proposes to amend a system of records notice in its existing inventory of records systems subject to the Privacy Act of 1974, (5 U.S.C. 552a), as amended.

DATES: This proposed action will be effective without further notice on November 19, 2010, unless comments are received which result in a contrary determination.

ADDRESSES: You may submit comments, identified by docket number and title, by any of the following methods:

• Federal Rulemaking Portal: http://www.regulations.gov. Follow the instructions for submitting comments.

• Mail: Federal Docket Management System Office, Room 3C843 Pentagon, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Jeanette M. Weathers-Jenkins at (703) 681-2409.

SUPPLEMENTARY INFORMATION: The Defense Logistics Agency systems of records notices subject to the Privacy Act of 1974, (5 U.S.C. 552a), as amended, have been published in the Federal Register and are available from the Defense Information Systems Agency, 5600 Columbia Pike, Room 505, Falls Church, VA 22041-2705.

The specific changes to the record system being amended are set forth below followed by the notice, as amended, published in its entirety. The proposed amendment is not within the purview of subsection (r) of the Privacy Act of 1974 (5 U.S.C. 552a), as amended, which requires the submission of new or altered systems reports.

Dated: October 15, 2010.
Mitchell S. Bryman,
Alternate OSD Federal Register Liaison Officer, Department of Defense.

KEUR.07

System Name:

Postal Directory File (February 22, 1993; 58 FR 10562).

Changes:

* * * * *

System Location:

Delete entry and replace with “Command Support Division, EU1, Defense Information System Agency-Europe, APO AE 09131-4103.”

* * * * *

Categories of Records in the System:

Delete entry and replace with “Records consist of designating Mail Clerks/supervisors (DD Form 285); change of address recorded on locator cards (DA Form 3955), comprising a directory of individuals assigned, en route, and/or departing given installation, showing individual's full name, grade, current mailing address, date of assignment/detachment, and Social Security Number (SSN).”

Authority for Maintenance of the System:

Delete entry and replace with “5 U.S.C. 301, Departmental Regulations; 10 U.S.C. 133, Under Secretary of Defense for Acquisition Technology and Logistics; DoD 4525.6-M, DoD Postal Manual; and E.O. 9397 (SSN), as amended.”

Purpose(s):

Delete entry and replace with “Card files are maintained by the Commander to designate individuals authorized to perform DISA-Europe postal functions and to maintain current addresses of individuals arriving/departing from units for the purpose of handling personal mail. Information is used by system manager to direct mail delivery to the proper address.”

Routine Uses of Records Maintained in the System, Including Categories of Users and the Purposes of Such Uses:

Delete entry and replace with “In addition to those disclosures generally permitted under 5 U.S.C. 552a(b) of the Privacy Act of 1974, these records contained therein may specifically be disclosed outside the DoD as a routine use pursuant to 5 U.S.C. 552a(b)(3) as follows:

The DoD `Blanket Routine Uses' set forth at the beginning of the DISA's compilation of systems of records notices apply to this system.”

* * * * *

Storage:

Delete entry and replace with “Paper records in file folders and electronic storage media.”

Retrievability:

Delete entry and replace with “By individual's name and/or Social Security Number (SSN).”

Safeguards:

Delete entry and replace with “Records are maintained in a controlled facility. Physical entry is restricted by the use of locks, guards, and is accessible only to authorized personnel. Physical and electronic access is restricted to designated individuals having a need in the performance of official duties and who are properly screened and cleared for need to know.”

Retention and Disposal:

Delete entry and replace “Documents designating postal personnel are destroyed two years from the termination/revocation date of designation. Directory locator cards (DA Form 3955) are retained for 12 months after member's departure from the agency and then destroyed.”

System Manager(s) and Address:

Delete entry and replace with “Command Support Division, EU1, Defense Information System Agency-Europe, APO AE 09131-4103.”

Notification Procedure:

Delete entry and replace with “Individuals seeking to determine whether information about themselves is contained in this system should address written inquiries to the Command Support Division, EU1, Defense Information System Agency-Europe, APO AE 09131-4103.

Individual must provide their full name, Social Security Number (SSN), current address, and signature to assist in locating the records.”

Record Access Procedures:

Delete entry and replace with “Individuals seeking access to information about themselves contained in this system should address written inquiries to the Command Support Division, EU1, Defense Information System Agency-Europe, APO AE 09131-4103.

Individual must provide their full name, Social Security Number (SSN), current address, and signature to assist in locating the records.”

* * * * *

KEUR.07

System Name:

Postal Directory File.

System Location:

Command Support Division, EU1, Defense Information System Agency-Europe, APO AE 09131-4103.

Categories of Individuals Covered by the System:

All individuals currently assigned to DISA Europe and those who departed within preceding 12 months.

Categories of Records in the System:

Records consist of designating Mail Clerks/supervisors (DD Form 285); change of address recorded on locator cards (DA Form 3955), comprising a directory of individuals assigned, en route, and/or departing given installation, showing individual's full name, grade, current mailing address, date of assignment/detachment, and Social Security Number (SSN).

Authority for Maintenance of the System:

5 U.S.C. 301, Departmental Regulations; 10 U.S.C. 133, Under Secretary of Defense for Acquisition Technology and Logistics; DoD 4525.6-M, DoD Postal Manual; and E.O. 9397 (SSN), as amended.

Purpose(s):

Card files are maintained by the Commander to designate individuals authorized to perform DISA-Europe postal functions and to maintain current addresses of individuals arriving/departing from units for the purpose of handling personal mail. Information is used by system manager to direct mail delivery to the proper address.

Routine Uses of Records Maintained in the System, Including Categories of Users and the Purposes of Such Uses:

In addition to those disclosures generally permitted under 5 U.S.C. 552a(b) of the Privacy Act of 1974, these records contained therein may specifically be disclosed outside the DoD as a routine use pursuant to 5 U.S.C. 552a(b)(3) as follows:

The DoD `Blanket Routine Uses' set forth at the beginning of the DISA's compilation of systems of records notices apply to this system.

Policies and Practices for Storing, Retrieving, Accessing, Retaining, and Disposing of Records in the System:

Storage:

Paper records in file folders and electronic storage media.

Retrievability:

By individual's name and/or Social Security Number (SSN).

Safeguards:

Records are maintained in a controlled facility. Physical entry is restricted by the use of locks, guards, and is accessible only to authorized personnel. Physical and electronic access is restricted to designated individuals having a need in the performance of official duties and who are properly screened and cleared for need to know.

Retention and Disposal:

Documents designating postal personnel are destroyed two years from the termination/revocation date of designation. Directory locator cards (DA Form 3955) are retained for 12 months after member's departure from the agency and then destroyed.

System Manager(s) and Address:

Command Support Division, EU1, Defense Information System Agency-Europe, APO AE 09131-4103.

Notification Procedure:

Individuals seeking to determine whether information about themselves is contained in this system should address written inquiries to the Command Support Division, EU1, Defense Information System Agency-Europe, APO AE 09131-4103.

Individual must provide their full name, Social Security Number (SSN), current address, and signature to assist in locating the records.

Record Access Procedures:

Individuals seeking access to information about themselves contained in this system should address written inquiries to the Command Support Division, EU1, Defense Information System Agency-Europe, APO AE 09131-4103.

Individual must provide their full name, Social Security Number (SSN), current address, and signature to assist in locating the records.

Contesting Record Procedures:

DISA's rules for accessing records, for contesting contents and appealing initial agency determinations are published in DISA Instruction 210-225-2; 32 CFR part 316; or may be obtained from the system manager.

Record Source Categories:

Information is provided by individuals upon initial assignment to DISA Europe.

Exemptions Claimed for the System:

None.

[FR Doc. 2010-26350 Filed 10-19-10; 8:45 am]

BILLING CODE 5001-06-P